DEPARTMENT OF TRANSPORTATION

Coast Guard

[USCG-2001-9194]

National Boating Safety Advisory Council

AGENCY: Coast Guard, DOT.

ACTION: Notice of meetings.

SUMMARY: The National Boating Safety Advisory Council (NBSAC) and its subcommittees on boat occupant protection, navigation lights, and prevention through people will meet to discuss various issues relating to recreational boating safety. All meetings will be open to the public.

DATES: NBSAC will meet on Monday, April 23, 2001, from 8:30 a.m. to 5 p.m. and Tuesday, April 24 from 8:30 a.m. to noon. The Prevention Through People Subcommittee will meet on Saturday, April 21, 2001 from 1:30 p.m. to 3:30 p.m.; and the Navigation Light Subcommittee will meet from 3:30 p.m. to 5:30 p.m. The Boat Occupant Protection Subcommittee will meet on Sunday, April 22, 2001, from 9 a.m. to noon. These meetings may close early if all business is finished. Written material and requests to make oral presentations should reach the Coast Guard on or before April 13, 2001. Requests to have a copy of your material distributed to each member of the committee or subcommittees should reach the Coast Guard on or before April 6, 2001.

ADDRESSES: NBSAC will meet at the Holiday Inn Select-City Centre Lakeshore Hotel, 1111 Lakeside Avenue, Cleveland, Ohio. The subcommittee meetings will be held at the same address. Send written material and requests to make oral presentations to Mr. Albert J. Marmo, Commandant (G-OPB-1), U.S. Coast Guard Headquarters, 2100 Second Street SW., Washington, DC 20593-0001. You may obtain a copy of this notice by calling the U.S. Coast Guard Infoline at 1-800-368-5647. This notice is available on the Internet at http://dms.dot.gov or at the Web Site for the Office of Boating Safety at URL address www.uscgboating.org.

FOR FURTHER INFORMATION CONTACT: Albert J. Marmo, Executive Director of NBSAC, telephone 202-267-0950, fax 202-267-4285.

SUPPLEMENTARY INFORMATION: Notice of these meetings is given under the Federal Advisory Committee Act, 5 U.S.C. App. 2.

Agendas of Meetings

National Boating Safety Advisory Council (NBSAC). The agenda includes the following:

(1) Executive Director's report.

(2) Chairman's session.

(3) Prevention Through People Subcommittee report.

(4) Navigation Light Subcommittee report.

(5) Boat Occupant Protection Subcommittee report.

(6) Recreational Boating Safety Program report.

(7) Canadian Coast Guard report.

(8) Discussion of petition to establish national standards for radar reflectors.

(9) Discussion on high-speed recreational vessels.

(10) Report on propeller protection issues.

(11) Carbon monoxide issues status report.

(12) Report on the Marine Transportation System.

(13) Report on “Operation BoatSmart.”

(14) Report on national industry boating education opportunities.

(15) Update on personal flotation device issues.

(16) Update on the boat factory visit program.

Prevention Through People Subcommittee. The agenda includes the following:

(1) Discuss changes to the “Federal Requirements and Safety Tips for Recreational Boats” brochure.

(2) Discuss current regulatory projects, grants and contracts dealing with personal flotation devices.

Boat Occupant Protection Subcommittee. The agenda includes the following:

(1) Discuss weight and horsepower compliance issues related to 4-stroke engines.

(2) Discuss current regulatory projects, grants and contracts impacting boat occupant protection.

Navigation Light Subcommittee. The agenda includes the following:

(1) Discuss issues coordinated with the Navigation Safety Advisory Council.

(2) Discuss navigation light certification rulemaking.

(3) Discuss navigation light grant projects.

Procedural

All meetings are open to the public. Please note that the meetings may close early if all business is finished. At the Chairs' discretion, members of the public may make oral presentations during the meetings. If you would like to make an oral presentation at a meeting, please notify the Executive Director no later than April 13, 2001. Written material for distribution at a meeting should reach the Coast Guard no later than April 13, 2001. If you would like a copy of your material distributed to each member of the committee or subcommittee in advance of a meeting, please submit 25 copies to the Executive Director no later than April 6, 2001.

Information on Services for Individuals With Disabilities

For information on facilities or services for individuals with disabilities or to request special assistance at the meetings, contact the Executive Director as soon as possible.

Dated: March 19, 2001.
Kenneth T. Venuto,
Rear Admiral, U.S. Coast Guard, Director of Operations Policy.

[FR Doc. 01-7318 Filed 3-22-01; 8:45 am]

BILLING CODE 4910-15-U